DEPARTMENT OF TRANSPORTATION

Federal Aviation Administration

14 CFR Part 71

[Docket No. FAA-2008-1229; Airspace Docket No. 08-ASW-26]

Amendment of Class E Airspace; Natchitoches, LA

AGENCY: Federal Aviation Administration (FAA), DOT.

ACTION: Final rule; correction.

SUMMARY: This action corrects the legal description of the Natchitoches Regional Airport, Natchitoches, LA, Class E airspace published in the Federal Register, changing the term “northeast of the airport” to “south of the airport”. All other legal descriptions for the Natchitoches Regional Airport remain the same.

DATES: 0901 UTC, July 2, 2009. The Director of the Federal Register approves this incorporation by reference action under 1 CFR Part 51, subject to the annual revision of FAA Order 7400.9 and publication of conforming amendments.

FOR FURTHER INFORMATION CONTACT: Scott Enander, Central Service Center, Operations Support Group, Federal Aviation Administration, Southwest Region, 2601 Meacham Blvd., Fort Worth, TX 76193-0530; telephone (817) 321-7716.

SUPPLEMENTARY INFORMATION:

History

On January 16, 2009, the FAA published in the Federal Register a Notice of Proposed Rulemaking to amend Class E airspace at Natchitoches Regional Airport, Natchitoches, LA (74 FR 2909). On April 15, 2009, the FAA published in the Federal Register a final rule amending Class E airspace at Natchitoches, LA (74 FR 17389), Docket No. FAA-2008-1229. Subsequent to publication, the FAA found that the term “northeast” was incorrectly used.

Final Rule, Correction

In Federal Register document (FR doc. E9-8574) published on April 15, 2009 (74 FR 17389), page 17390, column 2, under the title “ASW LA E5 Natchitoches, LA [Amended]”, in the 8th line, change the word “northeast” to read “south.”

Issued in Fort Worth, TX, on June 16, 2009.
Roger M. Trevino,
Acting Manager, Operations Support Group, ATO Central Service Center.

[FR Doc. E9-14817 Filed 6-23-09; 8:45 am]

BILLING CODE 4910-13-P